DEPARTMENT OF THE INTERIOR

National Park Service

[NPS-WASO-NAGPRA-NPS0031785; PPWOCRADN0-PCU00RP14.R50000]

Notice of Inventory Completion: San Bernardino County Museum, Redlands, CA

AGENCY: National Park Service, Interior.

ACTION: Notice.

SUMMARY: The San Bernardino County Museum has completed an inventory of human remains and associated funerary objects, in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the San Bernardino County Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Bernardino County Museum at the address in this notice by May 27, 2021.

ADDRESSES: Tamara Serrao-Leiva, San Bernardino County Museum, 2024 Orange Tree Lane, Redlands, CA 92374, telephone (909) 798-8623, email tserrao-leiva@sbcm.sbcounty.gov.

SUPPLEMENTARY INFORMATION: Notice is here given in accordance with the Native American Graves Protection and Repatriation Act (NAGPRA), 25 U.S.C. 3003, of the completion of an inventory of human remains and associated funerary objects under the control of the San Bernardino County Museum, Redlands, CA. The human remains and associated funerary objects were removed from San Bernardino County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Bernardino County Museum professional staff in consultation with representatives of the Agua Caliente Band of Cahuilla Indians of the Agua Caliente Indian Reservation, California; Cabazon Band of Mission Indians, California; Cahuilla Band of Indians [previously listed as Cahuilla Band of Mission Indians of the Cahuilla Reservation, California]; Morongo Band of Mission Indians, California; San Manuel Band of Mission Indians, California [previously listed as San Manual Band of Serrano Mission Indians of the San Manual Reservation]; Santa Rosa Band of Cahuilla Indians, California [previously listed as Santa Rosa Band of Cahuilla Mission Indians of the Santa Rosa Reservation]; Twenty-Nine Palms Band of Mission Indians of California; and the Mission Creek Band of Mission Indians, a non-federally recognized Indian group. The Augustine Band of Cahuilla Indians, California [previously listed as Augustine Band of Cahuilla Mission Indians of the Augustine Reservation]; Los Coyotes Band of Cahuilla and Cupeno Indians, California [previously listed as Los Coyotes Band of Cahuilla & Cupeno Indians of the Los Coyotes Reservation]; Ramona Band of Cahuilla, California [previously listed as Ramona Band or Village of Cahuilla Mission Indians of California]; Torres Martinez Desert Cahuilla Indians, California [previously listed as Torres-Martinez Band of Cahuilla Mission Indians of California; and the following non-federally recognized Indian groups: Gabrielino/Tongva Indians of California Tribe; Gabrieleno/Tongva Tribal Council; San Gabriel Band of Mission Indians; and the Gabrielino/Tongva Nation were invited to consult but did not participate. Hereafter, all the Indian Tribes and Groups listed above are referred to as “The Consulted and Invited Tribes and Groups.”

History and Description of the Remains

On June 25, 1971, human remains representing, at minimum, one individual were removed by University of California students from the Morongo Valley, at the mouth of Little Morongo Canyon in San Bernardino County, CA. These human remains are identified by a label reading “SBCM-141” and “SBCM-6234.” The site was first recorded as CA-SBR-141B by Chase and Redtfel in 1963 and was subsequently recorded as CA-SBR-148 by Wilkie in 1971. It has been heavily looted over the years. The human remains were exhumed from a private homestead owned by Mrs. O.S. McKinney. The presence of burnt beads, skull fragments, and other bone fragments indicate a cremation. No known individual was identified. The 17 associated funerary objects are two lots of worked/unworked bone, two lots of charcoal, six lots of cremation beads, (including A1900-2784, A5-388, A5-389), one lot of glass beads, and six stone markers.

Ethnohistoric evidence indicates that the area around the Morongo Valley was occupied by the Serrano, though many Tribes lived and travelled through the area. Indeed, a pattern of shared villages or territories is evidenced by other nearby sites. One such example is Mission Creek just south of the Bobo Site, which is known historically to have been shared by the Morongo, Agua Caliente, and Whitewater. Intragroup identity is reflected in an extant historic marker mounted on a large boulder in Covington Park. Dedicated in 1963, the marker reads, “John Morongo born 1850 was outstanding member of the Morongo Class for whom Morongo Basin was named. His parents established Big Morongo Oasis. The father belonged to Serrano Tribe, and mother to the Cahuilla Tribe.” A recent Cultural Resources Assessment by M. Lerch and G. Smith (1984) notes that native consultation was conducted with two Serrano tribal elders, Katherine Howard and Dorothy Ramon, who were living at the Morongo Reservation. According to M. Lerch (1984) and R. Benedict (1924), the Morongo Valley was originally inhabited by the Eastern Serrano groups, the Maringa and the Muhiatnim. Place names associated with the Morongo Valley include Serrano names such as Maringa, Turka, and Mukumpat.

At an unknown date, human remains representing, at minimum, two individuals were removed from the Asistencia (SBCM-714; CA-SBR-2307) in San Bernardino County, CA. The human remains are represented by fragments of long bones, vertebrae, ribs, carpals/tarsals, maxilla, teeth, and various cremated bones. The age and sex of the individuals are unknown. No known individuals were identified. The three associated funerary objects are one bullet shell, one lot of bird claws, and one lot of shell.

The Asistencia (or Estancia) was a mission outpost constructed in the San Bernardino Rancho in 1820, near the native village of Guachama. After the establishment of San Gabriel Mission in 1771, mission records report contact with Guachama village. The records also record that Carlos Garcia, a Spaniard and mayordomo of the Rancho, was directed to construct the Estancia a mile from its current location. In 1830, the Estancia was relocated to its present site on Barton Road. There, Majordomo Juan Alvarado built a new 14-room complex of adobe and timber. Four years later, in 1834, this complex was abandoned. During the 1840s, some of the buildings were used by Jose del Carmen Lugo as part of his land grant. Following its sale to the Mormons, it was occupied by Bishop Nathan C. Tenney in the 1850s, and by Ben Barton in the 1860s. By 1925, the Estancia was once again ruins, and in 1926, the County of San Bernardino and the Historical Society of San Bernardino, under the direction of Horace P. Hinckley, removed the remnants of the complex and began construction on a new six-room structure. It was perhaps during this time that human remains were found. The new structure was simply a romanticized reconstruction and would not have had a cemetery associated with it. It was completed in 1937, as a joint state (SERA) and federal (WPA) relief project. The County of San Bernardino stewarded and performed ongoing maintenance on the property until 2018, when ownership was transferred to the Redlands Conservancy.

A preponderance of the evidence supports a determination that these two individuals are Native American. There is little evidence that can establish a time-period for these human remains, though the archeological context suggests a pre-mission date. The Asistencia where the human remains were found operated from 1830 to 1834. Ethnohistoric evidence indicates that the area around the Guachama was occupied by the Serrano, though many Indian Tribes lived and travelled through the area, and a diverse native population in this region would have attracted a missionary presence.

Determinations Made by the San Bernardino County Museum

Personnel of the San Bernardino County Museum have determined that:

• Pursuant to 25 U.S.C. 3001(9), the human remains described in this notice represent the physical remains of three individuals of Native American ancestry.

• Pursuant to 25 U.S.C. 3001(3)(A), the 20 objects described in this notice are reasonably believed to have been placed with or near individual human remains at the time of death or later as part of the death rite or ceremony.

• Pursuant to 25 U.S.C. 3001(2), there is a relationship of shared group identity that can be reasonably traced between the Native American human remains and associated funerary objects and the Agua Caliente Band of Cahuilla Indians of the Agua Caliente Indian Reservation, California; Augustine Band of Cahuilla Indians, California [previously listed as Augustine Band of Cahuilla Mission Indians of the Augustine Reservation]; Cabazon Band of Mission Indians, California; Cahuilla Band of Indians [previously listed as Cahuilla Band of Mission Indians of the Cahuilla Reservation, California]; Los Coyotes Band of Cahuilla and Cupeno Indians, California [previously listed as Los Coyotes Band of Cahuilla & Cupeno Indians of the Los Coyotes Reservation]; Morongo Band of Mission Indians, California [previously listed as Morongo Band of Cahuilla Mission Indians of the Morongo Reservation]; Ramona Band of Cahuilla, California [previously listed as Ramona Band or Village of Cahuilla Mission Indians of California]; San Manuel Band of Mission Indians, California [previously listed as San Manual Band of Serrano Mission Indians of the San Manual Reservation]; Santa Rosa Band of Cahuilla Indians, California [previously listed as Santa Rosa Band of Cahuilla Mission Indians of the Santa Rosa Reservation]; and the Torres Martinez Desert Cahuilla Indians, California [previously listed as Torres-Martinez Band of Cahuilla Mission Indians of California] (hereafter referred to as “The Affiliated Tribes”).

Additional Requestors and Disposition

Lineal descendants or representatives of any Indian Tribe or Native Hawaiian organization not identified in this notice that wish to request transfer of control of these human remains and associated funerary objects should submit a written request with information in support of the request to Tamara Serrao-Leiva, San Bernardino County Museum, 2024 Orange Tree Lane, Redlands, CA 92373, telephone (909) 798-8623, email tserrao-leiva@sbcm.sbcounty.gov, by May 27, 2021. After that date, if no additional requestors have come forward, transfer of control of the human remains and associated funerary objects to The Affiliated Tribes may proceed.

The San Bernardino County Museum is responsible for notifying The Consulted and Invited Tribes and Groups that this notice has been published.

Dated: April 19, 2021.
Melanie O'Brien,
Manager, National NAGPRA Program.

[FR Doc. 2021-08775 Filed 4-26-21; 8:45 am]

BILLING CODE 4312-52-P